DEPARTMENT OF THE INTERIOR

Fish and Wildlife Service

Proposed Low Effect Habitat Conservation Plan for Westlake Ranch LLC in Clatsop County, OR

AGENCY: Fish and Wildlife Service, Interior.

ACTION: Notice of availability; receipt of application.

SUMMARY: This notice advises the public that Westlake Ranch LLC and Randy and Tasha Curs (Applicants) have applied to the Fish and Wildlife Service (Service) for an incidental take permit (ITP), pursuant to section 10(a)(1)(B) of the Endangered Species Act of 1973, as amended (Act). The requested 50-year permit would authorize the incidental take of the threatened Oregon silverspot butterfly (Speyeria zerene hippolyta, “butterfly”), associated with the construction and residential development of 75 lots on approximately 165 acres, five miles north of the city of Gearhart, in Clatsop County, Oregon.

We are requesting comments on the permit application and on whether the proposed Habitat Conservation Plan (HCP) qualifies as a “low effect” HCP, eligible for a categorical exclusion under the National Environmental Policy Act (NEPA) of 1969, as amended. We explain the basis for this possible determination in a draft Environmental Action Statement (EAS), which is also available for public review.

DATES: Written comments must be received by 5:00 p.m. on February 11, 2005.

ADDRESSES: Comments should be addressed to Kemper McMaster, State Supervisor, Fish and Wildlife Service, Oregon Fish and Wildlife Office, 2600 SE 98th Avenue, Suite 100, Portland, Oregon 97266, fax number (503) 231-6195 (for further information and instruction on the reviewing and commenting process, see Public Review and Comment section below).

FOR FURTHER INFORMATION CONTACT: Richard Szlemp, Fish and Wildlife Biologist, Fish and Wildlife Service (see ADDRESSES), or telephone (503) 231-6179.

SUPPLEMENTARY INFORMATION:

Availability of Documents

Individuals wishing copies of the application, proposed HCP, or EAS, should contact the Service by telephone (see FOR FURTHER INFORMATION CONTACT) or by letter (see ADDRESSES). Copies of the subject documents also are available for public inspection during regular business hours at the Oregon Fish and Wildlife Office (see ADDRESSES).

Background

Section 9 of the Act (16 U.S.C. 1531 et seq.) and Federal regulations prohibit the “take” of a fish or wildlife species listed as endangered or threatened. Take of federally listed fish and wildlife is defined under section 3 of the ACT as including to “harass, harm, pursue, hunt, shoot, wound, kill, trap, capture or collect, or to attempt to engage in such conduct” (16 U.S.C. 1538). The Service may, under limited circumstances, issue permits to authorize “incidental take” of listed species. “Incidental take” is defined by the ACT as take that is incidental to, and not the purpose of, carrying out an otherwise lawful activity. Regulations governing permits for threatened species and endangered species, respectively, are at 50 CFR 17.32 and 50 CFR 17.22. The Applicants are seeking a permit for the incidental take of the butterfly during the 50-year term of the permit.

Proposed covered activities under this HCP include development of 75 residential lots on approximately 165 acres by Westlake Ranch LLC and Randy and Tasha Curs. Incidental take of the butterfly would be likely only in areas containing its larval host plant, the early blue violet (Viola adunca). The proposed development area on Westlake Ranch LLC contains a total of 12 early blue violet patches. Eight of the proposed residential lots would impact early blue violets. One of the 12 early blue violet patches is about 0.13 acre in size. The other eleven patches are no more than five meters square. Ten of the 11 patches contain less than ten plants each. The remaining patch of the 11 contains greater than 20 plants, but is located outside of the development footprint. No early blue violets would be impacted on the Curs' property.

The proposed minimization and mitigation measures include setting aside a 6.5 acre area in perpetuity that contains a 0.5 acre patch of violets and a 0.55 acre patch of dune goldenrod (Solidago spathulata), which is a native plant that serves as an adult butterfly nectar source. The 6.5 acres would be protected under a conservation easement and be managed through annual mowing or other means to reduce competition from non-native plants. The Service would assist in the development of the annual mowing plan and be consulted regarding future management decisions. In addition, the Curs would continue to follow the terms of an existing agreement with the Service to manage a 1.5 acre area for the maintenance of early blue violets for the life of the proposed 50-year permit.

Approval of the HCP may qualify as a categorical exclusion under NEPA, as provided by the Departmental Manual (516 DM 2, Appendix 1 and 516 DM 6, Appendix 1) and as a “low effect” plan as defined by the Habitat Conservation Planning Handbook (Service, November, 1996). Determination of low effect HCPs is based upon the plan having: minor or negligible effects on federally-listed, proposed, or candidate species and their habitats; minor or negligible effects on other environmental values or resources; and, impacts that considered together with the impacts of other past, present, and reasonably foreseeable similarly situated projects would not result, over time, in cumulative effects to the environmental values or resources which would be considered significant. If it is found to qualify as a low-effect HCP, further NEPA documentation would not be required.

Public Review and Comment

If you wish to comment on the permit application, draft Environmental Action Statement, or the proposed HCP, you may submit your comments to the address listed in the ADDRESSES section of this document. We will evaluate this permit application, associated documents, and comments submitted thereon to determine whether the permit application meets the requirements of section 10(a) of the Act and NEPA regulations. Individual respondents may request that we withhold their home address from the record, which we will honor to the extent allowable by law. There also may be circumstances in which we would withhold from the record a respondent's identity, as allowable by law. If you wish us to withhold your name and/or address, you must state this prominently at the beginning of your comment. Anonymous comments will not be considered. All submissions from organizations or businesses, and from individuals identifying themselves as representatives or officials of organizations or businesses, are available for public inspection in their entirety. If we determine that the requirements are met, we will issue an incidental take permit under section 10(a)(1)(B) of the Act to the Applicants for take of the butterfly, incidental to otherwise lawful activities in accordance with the terms of the permit. We will not make our final decision until after the end of the 30-day comment period and will fully consider all comments received during the comment period.

The Service provides this notice pursuant to section 10(c) of the Act and pursuant to implementing regulations for NEPA (40 CFR 1506.6).

Dated: January 6, 2005.
David Wesley,
Deputy Regional Director, Fish and Wildlife Service, Portland, Oregon.

[FR Doc. 05-605 Filed 1-11-05; 8:45 am]

BILLING CODE 4310-55-P